DEPARTMENT OF COMMERCE

National Oceanic and Atmospheric Administration

Agency Information Collection Activities; Submission to the Office of Management and Budget (OMB) for Review and Approval; Comment Request; Atlantic Highly Migratory Species Individual Bluefin Quota (IBQ) Tracking and Appeals

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements, and minimize the public's reporting burden. The purpose of this notice is to allow for 60 days of public comment preceding submission of the collection to OMB.

DATES: To ensure consideration, comments regarding this proposed information collection must be received on or before September 16, 2024.

ADDRESSES: Interested persons are invited to submit written comments to Adrienne Thomas, NOAA PRA Officer, at Adrienne.thomas@noaa.gov. Please reference OMB Control Number 0648-0677 in the subject line of your comments. Do not submit Confidential Business Information or otherwise sensitive or protected information.

FOR FURTHER INFORMATION CONTACT: Requests for additional information or specific questions related to collection activities should be directed to Elsa Gutierrez, Atlantic Highly Migratory Species Management Division, 1315 East West Hwy., Bldg. SSMC3, Silver Spring, MD 20910-3282, (301) 427-8503 or Elsa.Gutierrez@noaa.gov.

SUPPLEMENTARY INFORMATION:

I. Abstract

This request is for renewal and extension of a currently approved information collection. Under the provisions of the Magnuson-Stevens Fishery Conservation and Management Act (16 U.S.C. 1801 et seq.), the National Marine Fisheries Service (NMFS) is responsible for management of the Nation's marine fisheries. NMFS must also promulgate regulations, as necessary and appropriate, to carry out obligations the United States undertakes internationally regarding tuna management through the Atlantic Tunas Convention Act (ATCA, 16 U.S.C. 971 et seq.).

Amendment 7 to the 2006 Consolidated HMS Fishery Management Plan (79 FR 71510, December 2, 2014) implemented individual Bluefin tuna quota (IBQ) shares and allocations for vessels permitted in the Atlantic Tunas Longline category through the IBQ online system. IBQs are intended to fairly and effectively allocate limited quota for incidental capture of Atlantic Bluefin tuna among vessels in the Longline category, while minimizing dead discards and discouraging interactions with Bluefin tuna. An online system developed by NMFS tracks allocations and allocation leases, and reconciles allocation with bluefin tuna catches for quota monitoring. This collection of information accounts for the reporting burden associated with allocation and lease tracking.

First-time vessel permit holders in the affected categories must obtain and set up an IBQ account in the online “IBQ Catch Shares Program” in order to be issued IBQ shares and resultant allocation, to lease IBQ, and to resolve quota debt. To use the electronic IBQ System, first-time participants will need to request an account and set their account up with background information. The information collected during account issuance and set-up will be used by NMFS to verify the identity of the individual/business and whether they qualify for IBQ allocation leasing.

The lease monitoring information collected by the online system will be used by each permit holder to keep track of their individual IBQ allocation, and document allocation leases with other IBQ participants. NMFS will use these data to ensure proper accounting of allocations among participants, and to track use of quota allocations and reconcile allocation usage with Bluefin tuna catch and landings.

II. Method of Collection

Method of submission is electronic.

III. Data

OMB Control Number: 0648-0677.

Form Number(s): None.

Type of Review: Regular submission [extension of a currently approved information collection].

Affected Public: Business or other for-profit organization.

Estimated Number of Respondents: 320.

Estimated Time per Response: 10 minutes for initial application for IBQ account, 15 minutes per IBQ allocation lease, and 15 minutes per IBQ Cost Recovery.

Estimated Total Annual Burden Hours: 79.

Estimated Total Annual Cost to Public: $0.

Respondent's Obligation: Mandatory.

Legal Authority: Legal authority for these data collections are authorized under the Magnuson-Stevens Fishery Conservation and Management Act (16 U.S.C. 1801 et seq.) and the Atlantic Tunas Convention Act (ATCA, 16 U.S.C. 971 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-15626 Filed 7-15-24; 8:45 am]

BILLING CODE 3510-22-P